DEPARTMENT OF THE INTERIOR

Minerals Management Service

Royalty Policy Committee of the Minerals Management Advisory Board; Notice and Agenda for Meeting

AGENCY: Minerals Management Service (MMS), Interior.

ACTION: Notice of meeting.

SUMMARY: The Royalty Policy Committee of the Minerals Management Advisory Board will meet at the Sheraton Denver West Hotel in Lakewood, Colorado.

DATES: Tuesday, October 22, 2002, from 8:30 a.m. to 5 p.m.

ADDRESSES: The Sheraton Denver West Hotel, 360 Union Boulevard, Lakewood, Colorado, 80228, telephone (303) 987-2000.

FOR FURTHER INFORMATION CONTACT: Mr. Gary Fields, Royalty Policy Committee Coordinator, Minerals Revenue Management, Minerals Management Service, P.O. Box 25165, MS 300B3, Denver, CO 80225-0165, telephone (303) 231-3102, fax (303) 231-3781, email gary.fields@mms.gov.

SUPPLEMENTARY INFORMATION: The Secretary of the Interior established a Royalty Policy Committee on the Minerals Management Advisory Board to provide advice on the Department's management of Federal and Indian minerals leases, revenues, and other minerals-related policies. Committee membership includes representatives from States, Indian tribes and allottee organizations, minerals industry associations, the general public, and Federal departments.

At this 15th meeting, the committee will elect a Parliamentarian and receive subcommittee reports on sodium/potassium, coal, and marginal properties. Previous committee recommendations on the appeals process will be discussed with the MMS Director. The MMS will present reports on financial management, the Strategic Petroleum Reserve, and the royalty-in-kind initiatives. The MMS will provide an update if new Energy Legislation is passed by Congress, and the Committee will discuss the possibility of forming a subcommittee to study potential implications of a Federal Energy Regulatory Commission decision on an offshore natural gas pipeline system handling Gulf of Mexico production.

The location and dates of future meetings will be published in the Federal Register and posted on our Internet site at http://www.mrm.mms.gov//Laws_R_D/RoyPC/RoyPC.htm. The meetings are open to the public without advance registration on a space available basis. The public may make statements during the meetings, to the extent time permits, and file written statements with the committee for its consideration. Written statements should be submitted to Mr. Fields at the mailing address listed in the FOR FURTHER INFORMATION CONTACT section. Transcripts of committee meetings will be available 2 weeks after each meeting for public inspection and copying at MMS's Minerals Revenue Management, Building 85, Denver Federal Center, Denver, Colorado. Meeting minutes will be posted on our Internet site at http://www.mrm.mms.gov//Laws_R_D/RoyPC/ROYPC.htm about 5 weeks after the meeting.

Authority: Federal Advisory Committee Act, Public Law 92-463, 5 U.S.C. Appendix 1, and Office of Management and Budget Circular No. A-63, revised.

Dated: August 28, 2002.
Cathy J. Hamilton,
Acting Associate Director for Minerals Revenue Management.

[FR Doc. 02-23145 Filed 9-11-02; 8:45 am]

BILLING CODE 4310-MR-U